SMALL BUSINESS ADMINISTRATION

[Declaration of Disaster #3317]

State of Texas; Amendment #2

In accordance with a notice received from the Federal Emergency Management Agency, dated January 29, 2001, the above-numbered Declaration is hereby amended to include Fannin County as a disaster area due to damages caused by a severe winter ice storm beginning on December 12, 2000 and continuing through January 15, 2001.

In addition, applications for economic injury loans from small businesses located in the following contiguous counties may be filed until the specified date at the previously designated location: Collin, Grayson and Hunt in the State of Texas, and Bryan County in the State of Oklahoma.

Any counties contiguous to the above named primary counties and not listed herein have been previously declared.

All other information remains the same, i.e., the deadline for filing applications for physical damage is March 9, 2001 and for economic injury the deadline is October 9, 2001.

(Catalog of Federal Domestic Assistance Program Nos. 59002 and 59008.)
Dated: January 30, 2001.
Herbert L. Mitchell,
Associate Administrator for Disaster Assistance.

[FR Doc. 01-3029 Filed 2-5-01; 8:45 am]

BILLING CODE 8025-01-P